DEPARTMENT OF COMMERCE

National Oceanic and Atmospheric Administration

[RTID 0648-XE080]

Identification of Nations or Entities Engaged in Illegal, Unreported, or Unregulated Fishing, Bycatch of Protected Living Marine Resources, or Fishing Activities That Target or Incidentally Catch Sharks

AGENCY: National Marine Fisheries Service (NMFS), National Oceanic and Atmospheric Administration (NOAA), Commerce.

ACTION: Notice; request for information.

SUMMARY: NMFS is seeking information from 2022, 2023, and/or 2024 regarding nations or entities that have competency to enter into international fishery management agreements (entities) that are engaging in or endorsing illegal, unreported, or unregulated (IUU) fishing or have vessels that engaged or are engaging in IUU fishing, fishing activities or practices that result in the bycatch of protected living marine resources (PLMRs) on the high seas or within the exclusive economic zone (EEZ) of any nation or fishing activities on the high seas or within the EEZ of another nation that target or incidentally catch sharks. Such information will be reviewed and may be used for the purpose of identifying nations or entities pursuant to the High Seas Driftnet Fishing Moratorium Protection Act (Moratorium Protection Act).

DATES: NMFS encourages submission before the preferred deadline of October 1, 2024, with a final deadline of December 31, 2024.

ADDRESSES: Information may be submitted either electronically to: IUU.PLMR.Sharks@noaa.gov or by mail to: NMFS Office of International Affairs, Trade, and Commerce, Attn.: Moratorium Protection Act Information, F/IATC 1315 East-West Highway, Silver Spring, MD 20910.

FOR FURTHER INFORMATION CONTACT: Ellie Bors, (240) 429-4461, eleanor.bors@noaa.gov.

SUPPLEMENTARY INFORMATION:

Background

The Moratorium Protection Act requires the Secretary of Commerce (Secretary) to issue a biennial report to Congress that includes a list of nations and entities identified for engaging in or endorsing IUU fishing, as well as those nations and entities having fishing vessels that engaged in or are engaging in IUU fishing, fishing activities or practices that result in the bycatch of PLMRs on the high seas or within the EEZ of any nation without a regulatory program comparable in effectiveness to that of the United States; and/or fishing activities on the high seas or within the EEZ of another nation that target or incidentally catch sharks without a regulatory program comparable to that of the United States.

NMFS submitted the eighth biennial report to Congress in August 2023 and it is available online at: https://www.fisheries.noaa.gov/s3/2023-08/2023RTC-ImprovingIFManagement.pdf. NMFS identified seven nations and entities for IUU fishing and two for shark catch where those nations do not have a comparable regulatory program to that of the United States. In fulfillment of its requirements under the Moratorium Protection Act, NMFS is preparing the ninth biennial report to Congress, to be released in 2025. NMFS is soliciting information from the public regarding activities by foreign fishing vessels, nations, and entities in 2022, 2023, and/or 2024 that may support identification of nations and entities in the biennial report.

Recent Amendments to the Moratorium Protection Act

On December 27, 2022, the James M. Inhofe National Defense Authorization Act for Fiscal Year 2023 (2023 NDAA) (Pub. L. 117-263) amended the Moratorium Protection Act by, in part:

(1) adding new considerations when making IUU fishing identifications;

(2) expanding the scope of information that can be used for the identification of nations for bycatch of a PLMR or shark catch to include fishing activities within the EEZ of another nation; and

(3) authorizing the agency to make an identification at any time that the Secretary has sufficient information to make such identification.

IUU Fishing

The Moratorium Protection Act requires the Secretary to list in a biennial report to Congress those nations and entities identified for engaging in or endorsing IUU fishing, or for having fishing vessels engaged in or are engaging in IUU fishing. In making these identifications, the Secretary is to consider any nation or entity that is violating, or has violated at any point during the preceding three years, conservation and management measures required under an international fishery management agreement to which the United States is a party; any nation or entity that is failing, or has failed at any point during the preceding three years to effectively address or regulate IUU fishing within its fleets in any areas where its vessels are fishing; and any nation that fails to discharge its flag, port, or coastal state responsibilities to prevent, deter, and eliminate IUU fishing; and any nation or entity producing for export to the United States seafood-related goods through forced labor or oppressive child labor that the U.S. Department of Labor has included in the most recent List of Goods Produced by Child Labor or Forced Labor.

The definition of IUU fishing for the Moratorium Protection Act can be found at 50 CFR 300.201 and includes:

(1) Fishing activities that violate conservation and management measures required under an international fishery management agreement to which the United States is a party, including catch limits or quotas, capacity restrictions, bycatch reduction requirements, shark conservation measures, and data reporting;

(2) In the case of non-parties to an international fishery management agreement to which the United States is a party, fishing activities that would undermine the conservation of the resources managed under that agreement;

(3) Overfishing of fish stocks shared by the United States, for which there are no applicable international conservation or management measures or in areas with no applicable international fishery management organization or agreement, that has adverse impacts on such stocks;

(4) Fishing activity that has an adverse impact on vulnerable marine ecosystems such as seamounts, hydrothermal vents, cold water corals and other vulnerable marine ecosystems located beyond any national jurisdiction, for which there are no applicable conservation or management measures or in areas with no applicable international fishery management organization or agreement; and

(5) Fishing activities by foreign-flagged vessels in U.S. waters without authorization of the United States.

PLMR Bycatch

The Moratorium Protection Act requires the Secretary to list in the biennial report to Congress those nations and entities identified for having fishing vessels that are engaged, or have been engaged at any point during the preceding three years in fishing activities or practices on the high seas or within the EEZ of any nation that have resulted in bycatch of a PLMR, and the vessel's flag state has not adopted, implemented, and enforced a regulatory program governing such fishing designed to end or reduce such bycatch that is comparable in effectiveness to the regulatory program of the United States, taking into account differing conditions. PLMRs are defined as non-target fish (including sharks), sea turtles, or marine mammals that are protected under U.S. law or international agreement, including the Marine Mammal Protection Act, the Endangered Species Act, the Shark Finning Prohibition Act, and the Convention on International Trade in Endangered Species of Wild Flora and Fauna. PLMRs do not include species, except sharks, managed under the Magnuson-Stevens Fishery Conservation and Management Act, the Atlantic Tunas Convention Act, or any international fishery management agreement. A list of species considered as PLMRs for the purposes of identification under the Moratorium Protection Act is available online at: https://media.fisheries.noaa.gov/dam-migration/plmr_list_2019.pdf.

Shark Catch

The Moratorium Protection Act requires that the Secretary list in the biennial report to Congress those nations and entities whose fishing vessels are engaged, or have been engaged at any point during the preceding three years, in fishing activities on the high seas or within the EEZ of another nation that target or incidentally catch sharks; and the vessel's flag state has not adopted, implemented, and enforced a regulatory program to provide for the conservation of sharks, including measures to prohibit removal of any of the fins of a shark, including the tail, before landing the shark in port, that is comparable to that of the United States.

Information Solicited

NMFS is soliciting information from 2022, 2023, and/or 2024 from the public that could be relevant to the identification of nations and entities that meet the criteria described above for IUU fishing, PLMR bycatch, or shark catch. Such information might include documentation of activities, such as photographs, videos, witness testimony, publically available data, verifiable catch data, or other proof of activity. Useful details include the location, time, and date of activity; and, where applicable, flag, name, or other identifier of the vessel. Some types of information that may prove relevant to the process include:

• Documentation of IUU fishing activity;

• Documentation of fishing vessels engaged in bycatch of PLMRs on the high seas or within the EEZ of any nation;

• Documentation of illegal shark fishing in contravention of shark conservation and management measures adopted by Regional Fisheries Management Organizations (RFMOs) (shark finning without full utilization of the carcass, retention of prohibited shark species, etc.);

• Documentation of instances where a nation has failed to meet reporting, compliance, scientific, or any other binding requirements as outlined by international fora, including, for example, RFMOs or the Convention on International Trade in Endangered Species of Wild Fauna and Flora (CITES);

• Documentation of nations' regulatory programs to provide for the conservation of sharks that do not prohibit removal of any of the fins of a shark, including the tail, before landing the shark in port;

• Reports from off-loading facilities, port-side government officials, enforcement agents, military personnel, port inspectors, transshipment vessel workers and fish importers;

• Sightings of vessels included on RFMO IUU vessel lists;

• RFMO catch documents and statistical document programs;

• Reports of vessels fishing in the EEZ of another nation without authorization, or fishing with authorization in the EEZ of another nation but violating the conditions of that authorization;

• Relevant reports from governments, international organizations, or nongovernmental organizations; and

• Evidence of large-scale (over 2.5 km in length) drift-net use.

NMFS will consider all available information, as appropriate, when making a determination whether to identify a particular nation or entity in the biennial report to Congress. Information should be as specific as possible as this will assist NMFS in its review. NMFS will consider several criteria when determining whether information is appropriate for use in making identifications, including but not limited to:

• Corroboration of information;

• Whether multiple sources have been able to provide information in support of an identification;

• The methodology used to collect the information;

• Specificity of the information provided (i.e., location, date, time of occurrence);

• Susceptibility of the information to falsification and alteration;

• Credibility of the individuals or organization providing the information; and

• Ability to share the provided information with a nation or entity in the event that it is identified, so that the nation can take specific corrective actions.

More information regarding the identification process and how the information received will be used in that process can be found at 16 U.S.C. 1826h-1826k and in the regulations codified at 50 CFR 300.200 et seq.

Dated: July 1, 2024.
Alexa Cole,
Director, Office of International Affairs, Trade, and Commerce, National Marine Fisheries Service.

[FR Doc. 2024-14823 Filed 7-5-24; 8:45 am]

BILLING CODE 3510-22-P